DEPARTMENT OF JUSTICE

[OMB Number 1121-NEW]

Agency Information Collection Activities; Proposed eCollection eComments Requested; New Collection: State and Local Justice Agencies Serving Tribal Lands (SLJASTL): Survey of State and Local Law Enforcement Agencies in PL 280 States Serving Tribal Lands (SSLLEASTL)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until December 12, 2017.

FOR FURTHER INFORMATION CONTACT: If you have additional comments especially on the estimated public burden or associated response time, suggestions, or need a copy of the proposed information collection instrument with instructions or additional information, please contact Suzanne Strong, Statistician, Prosecution and Judicial Statistics, Bureau of Justice Statistics, 810 Seventh Street NW., Washington, DC 20531 (email: Suzanne.M.Strong@usdoj.gov; telephone: 202-616-3666).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: State and Local Justice Agencies Serving PL-280 Tribal Lands (SLJASTL): Survey of State and Local Law Enforcement Agencies Serving PL-280 Tribal Lands (SSLLEASTL).

(3) The agency form number, if any, and the applicable component of the Department sponsoring the collection: No agency form number at this time. The applicable component within the Department of Justice is the Bureau of Justice Statistics, in the Office of Justice Programs.

(4) Affected public who will be asked or required to respond, as well as a brief abstract: Respondents will be general purpose state and local law enforcement agencies (LEAs) that are responsible for policing tribal lands in the sixteen Public Law 280 (PL-280) states, including state police departments, sheriff's offices, and general purpose local law enforcement agencies. The respondent universe will be finalized after an initial telephone contact to determine which agencies are most likely to provide services to tribal lands. Abstract: Among other responsibilities, the Bureau of Justice Statistics (BJS) is charged with collecting data regarding crimes occurring on tribal lands. The SLJASTL is the first effort by BJS to collect data from state and local justice agencies responsible for policing and prosecuting crimes that occur on tribal lands in PL-280 states. State and local law enforcement agencies have jurisdiction over specific crimes and offenders when crimes occur on tribal lands.

There are no existing data collections that describe state and local law enforcement agencies' roles on tribal lands.

This collection involves at least a two-stage process. In the first phase, BJS will conduct a pilot test to determine if it is possible to sample agencies located in counties with tribal lands within their jurisdictions. BJS will telephone agencies in sampled counties to inquire about the agency's provision of services and whether the agency is aware of other police agencies that provide services to tribal lands. There are 267 counties that include tribal lands as part of their jurisdiction. BJS will sample 26 counties and select one agency within the county to ask about the delivery of services to tribal lands. There are 515 counties with no tribal lands in their jurisdiction. BJS will first sort the counties based on a measure of distance from tribal lands from closest to farthest. BJS will sample 37 agencies from the closest set of counties and 37 agencies from the farther set of counties. BJS will ask the selected agencies within those counties about their delivery of services to tribal lands.

BJS also needs to determine whether county agencies in Alaska provide services to Alaskan Native Villages, or if only the state police and village public safety officers (VPSO) provide services. There are 19 boroughs in Alaska, and at least 7 boroughs will be sampled in the first phase and the police agency for the borough will be asked about the provision of services to Alaska Native Villages. BJS will telephone approximately 107 agencies to determine if agencies in PL-280 states provide services, or if there is some specialization, particularly among city and county agencies, or agencies located closer to tribal lands. BJS will also cognitively test the revised survey with 10 agencies, including at least one state police agency, one Alaska VPSO agency, four county agencies, and four city agencies.

In the second phase, BJS will refine the sampling frame and will conduct the main survey effort. The SSLLEASTL survey is designed to collect information that will help fill the gaps in our understanding of the nature of crime on tribal lands. There are two survey instruments: One for Alaska and one for the remaining fifteen PL-280 states. The data collection instruments capture administrative, operational and caseload data from respondents. Information requested includes staffing of state and local law enforcement agencies; types of agreements state and local law enforcement agencies have with tribal governments; types of patrol services, traffic services, and detention services provided to tribal lands; information sharing between state and local law enforcement and tribal governments; training provided by state and local law enforcement to tribal law enforcement (including cross-deputization agreements); training received by state and local law enforcement agencies on tribal jurisdiction, tribal law and tribal culture; and the number and types of incidents policed by state and local law enforcement agencies. This survey is the first to describe the role that state and local law enforcement play in policing crime on tribal lands in PL-280 states.

(5) An estimate of the total number of respondents and the amount of time estimated for an average respondent to respond: BJS expects to cognitively test the survey with about 10 agencies with an estimated burden of 60 minutes and to contact approximately 107 agencies by telephone to ask whether they provide services to tribal lands. We estimate the telephoned pilot test respondent burden to be about 10 minutes per respondent. After the pilot test, BJS will determine the total number of agencies that will be contacted in the full survey effort. For the full survey, BJS estimates a maximum of 1,300 agencies with a respondent burden of about 30 minutes per agency, including follow-up time.

(6) An estimate of the total public burden (in hours) associated with the collection: The total respondent burden for the cognitive test is 10 burden hours. The total respondent burden for the telephone pilot test is approximately 18 burden hours. The maximum expected respondent burden for the full survey effort is approximately 585 burden hours. Total burden for this effort is approximately 613 burden hours.

If additional information is required contact: Melody Braswell, Department Clearance Officer, United States Department of Justice, Justice Management Division, Policy and Planning Staff, Two Constitution Square, 145 N Street NE., 3E.405A, Washington, DC 20530.

Dated: October 10, 2017.
Melody Braswell,
Department Clearance Officer for PRA, U.S. Department of Justice.

[FR Doc. 2017-22166 Filed 10-12-17; 8:45 am]

BILLING CODE 4410-18-P